DEPARTMENT OF THE INTERIOR

Fish and Wildlife Service

[FWS-R3-ES-2012-N111; FXES11130300000F3-123-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before June 18, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE73584A.

Applicant: Illinois Natural History Survey, Champaign, IL.

The applicant requests a permit to take (capture and release; capture and relocate) the following endangered mussel species: clubshell (Pleurobema clava), northern riffleshell (Epioblasma rangiana), orangefoot pimpleback (Plethobasus cooperianus), pink mucket (Lampsilis abrupta), sheepnose (Plethobasus cyphyus), spectaclecase (Cumberlandia monodonta), winged mapleleaf (Quadrula fragosa), fanshell (Cyprogenia stegaria), snuffbox (Epioblasma triquetra), Higgins' eye pearlymussel (Lampsilis higginsii), ring pink (Obovaria retusa), fat pocketbook (Potamilus capax), and rayed bean (Villosa fabalis). Proposed activities would occur throughout the State of Illinois, including presence/absence surveys and mussel relocation to enhance recovery of the species. Proposed activities are for the purpose of recovery of the species in the wild.

Permit Application Number: TE73587A.

Applicant: Missouri Department of Conservation, Jefferson City, MO.

The applicant requests a permit to take the Ozark hellbender (Cryptobranchus alleganiensis bishopi) in Missouri for the propagation, augmentation, and reintroduction of the species. Proposed activities are for the survival and recovery of the species in the wild.

Permit Application Number: TE73128A.

Applicant: Malacological Consultants, LaCrosse, WI.

The applicant requests a permit to take (capture and release; capture and relocate) Higgins' eye pearlymussel, fat pocketbook, winged mapleleaf, sheepnose, spectaclecase, scaleshell (Leptodea leptodon), and snuffbox mussels within the Upper Mississippi and Iowa Rivers, States of Minnesota, Wisconsin, Iowa, and Illinois. Proposed activities are for the enhancement of survival and recovery of the species in the wild.

Permit Application Number: TE73598A.

Applicant: Fowler Ridge Wind Farm, LLC, Houston, TX.

The applicant requests a permit to take (study, salvage, and monitor) the Indiana bat (Myotis sodalis) at the Fowler Ridge Wind Farm, Benton County, IN. The applicant proposes to monitor the nocturnal behavior of bats in and around turbines utilizing an experimental design to determine susceptibility of bats to turbine mortality at varying wind speeds and operating protocols. The study is proposed to further understand bat interactions with turbines at multiple spatial and temporal scales and to determine the best combination of methods for detecting and observing interactions. Proposed activities are for the enhancement of survival of the species in the wild.

Permit Application Number: TE74589A.

Applicant: Vesper Environmental, LLC, Hurley, NY.

The applicant requests a permit to take (capture and release) Indiana bats in Ohio, New York, Pennsylvania, West Virginia, Vermont, Maryland, and Massachusetts. Proposed activities are for the enhancement of survival of the species in the wild.

Permit Application Number: TE74592A.

Applicant: R. Jeffrey Brown, Mason, OH.

The applicant requests a permit to take (capture and release) Indiana bats, gray bats, Virginia big-eared bats, and Ozark big-eared bats throughout the range of the species. Proposed activities are for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: May 10, 2012.
Robert Krska,
Acting Assistant Regional Director, Ecological Services, Midwest Region.

[FR Doc. 2012-11946 Filed 5-16-12; 8:45 am]

BILLING CODE 4310-55-P